ENVIRONMENTAL PROTECTION AGENCY

[FRL-6732-7]

Proposed CERCLA Prospective Purchaser Agreement; Green Industries Site; City of Sharonville (Cincinnati), Hamilton County, Ohio

AGENCY: Environmental Protection Agency.

ACTION: Notice; request for public comment.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning the Green Industries Corporation site at 3603 East Kemper Road, in Sharonville (Cincinnati), Hamilton County, Ohio 45241, with the Port Authority for Brownfield Redevelopment in Cincinnati and Hamilton County (“the Port Authority”). The agreement requires the Port Authority to pay $500.00 to the EPA Hazardous Substance Superfund; to commence participation in the Ohio EPA Voluntary Action Program (“VAP”) and, thereafter, to use its best efforts to perform such investigation, characterization and remediation activities as are necessary to attain VAP cleanup standards and/or attain a VAP Covenant Not to Sue; and to provide to U.S. EPA access to the site and to records kept by the Port Authority, retaining any such records for at least five (5) years after the effective date of the agreement. The agreement includes U.S. EPA's covenant not to sue or to take any other civil or administrative action against the Port Authority for any and all civil liability for injunctive relief or reimbursement of response costs pursuant to Sections 106 or 107(a) of CERCLA, 42 U.S.C. 9606 and 9607(a), with respect to existing contamination at or from the site. The United States will consider all comments received and may modify or withdraw its consent to the agreement if comments received disclose facts or considerations which indicate that the agreement is inappropriate, improper, or inadequate. The United States' response to any comments received will be available for public inspection at U.S. EPA, Region 5, 77 W. Jackson Boulevard, Chicago, IL 60604. Please contact Richard R. Wagner at (312) 886-7947 to make arrangements to inspect the comments.

DATES: Comments must be submitted on or before August 9, 2000.

ADDRESSES: The proposed settlement is available for public inspection at U.S. EPA, Region 5, 77 W. Jackson Boulevard, Chicago, IL 60604. A copy of the proposed agreement may be obtained from Richard R. Wagner, at U.S. EPA, Region 5, 77 W. Jackson Boulevard (C-14J), Chicago, IL 60604, phone (312) 886-7947. Comments should reference the Green Industries Corporation prospective purchaser agreement, and should be addressed to Richard R. Wagner.

FOR FURTHER INFORMATION CONTACT: Richard R. Wagner, at U.S. EPA, Region 5, 77 W. Jackson Boulevard (C-14J), Chicago, IL 60604, phone (312) 886-7947.

Dated: March 27, 2000.
William E. Muno,
Director, Superfund Division, U.S. EPA Region 5.

[FR Doc. 00-17349 Filed 7-7-00; 8:45 am]

BILLING CODE 6560-50-M